DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, which was published in the Federal Register on January 30, 2020, 85 FRN 5461.

The NIAMS Special Emphasis Panel meeting is being amended due to a change in the meeting format. This one-day meeting held on 3/27/2020 will be a teleconference meeting. The meeting is closed to the public.

Dated: March 12, 2020.
Miguelina Perez,
Program Analyst, Office of Federal Advisory Committee Policy.

[FR Doc. 2020-05523 Filed 3-16-20; 8:45 am]

BILLING CODE 4140-01-P